DEPARTMENT OF LABOR

Employment and Training Administration

[TA-W-62,355]

Hawley Products Incorporated, Paducah, Kentucky; Notice of Affirmative Determination Regarding Application for Reconsideration

By application dated December 12, 2007, a company official requested administrative reconsideration of the Department's Notice of Negative Determination Regarding Eligibility to Apply for Worker Adjustment Assistance applicable to workers and former workers of the subject firm. The negative determination was issued on November 8, 2007, and the Department's Notice of negative determination was published in the Federal Register on November 21, 2007 (72 FR 65607). The subject workers are engaged in the production of loudspeaker cones.

The determination was based on the Department's findings that subject firm sales and production of loudspeaker cones increased from January through September 2007 compared with the same period in 2006. During the relevant period, the subject firm did not import loudspeaker cones or shift production of loudspeaker cones abroad.

In the request for reconsideration, the company official stated that subject firm production had decreased during the relevant period and is closing.

The Department has carefully reviewed the request for reconsideration and has determined that the Department will conduct further investigation.

Conclusion

After careful review of the application, I conclude that the claim is of sufficient weight to justify reconsideration of the U.S. Department of Labor's prior decision. The application is, therefore, granted.

Signed at Washington, DC, this 3rd day of January 2008.
Elliott S. Kushner,
Certifying Officer, Division of Trade Adjustment Assistance.

[FR Doc. E8-260 Filed 1-9-08; 8:45 am]

BILLING CODE 4510-FN-P